DEPARTMENT OF DEFENSE

Department of the Army; Corps of Engineers

Board on Coastal Engineering Research

AGENCY: Department of the Army, DoD.

ACTION: Notice of advisory committee meeting.

SUMMARY: The Department of the Army is publishing this notice to announce the following Federal advisory committee meeting of the Board on Coastal Engineering Research. This meeting is open to the public.

DATES: The Board on Coastal Engineering Research will meet from 8:00 a.m. to 12:00 p.m. on August 13, 2019 and reconvene from 8:00 a.m. to 5:00 p.m. on August 14, 2019. The Executive Session of the Board will convene from 8:00 a.m. to 12:00 p.m. on August 15, 2019.

ADDRESSES: All sessions will be held at the Crowne Plaza Detroit Downtown Hotel Windsor Ballroom, 2 Washington Blvd., Detroit, MI 48226. All sessions, including the Executive Session are open to the public. For more information about the Board, please visit https://chl.erdc.dren.mil/usace-cerb/.

FOR FURTHER INFORMATION CONTACT: Dr. Julie Dean Rosati Designated Federal Officer (DFO), U.S. Army Engineer Research and Development Center, Waterways Experiment Station, Coastal and Hydraulics Laboratory, 3909 Halls Ferry Road, Vicksburg, MS 39180-6199, phone (202) 761-1850, or Julie.D.Rosati@usace.army.mil.

SUPPLEMENTARY INFORMATION: The meeting is being held under the provisions of the Federal Advisory Committee Act (FACA) of 1972 (5 U.S.C., Appendix, as amended), the Government in the Sunshine Act of 1976 (5 U.S.C. 552b, as amended), and 41 CFR 102-3.150. The Board on Coastal Engineering Research provides broad policy guidance and reviews plans for the conduct of research and the development of research projects in consonance with the needs of the coastal engineering field and the objectives of the U.S. Army Chief of Engineers.

Due to circumstances beyond the control of the Department of Defense (DoD) and the Designated Federal Officer, the Board on Coastal Engineering Research was unable to provide public notification required by 41 CFR 102-3.150(a) concerning the meeting on August 13-15, 2019, of the Board on Coastal Engineering Research. Accordingly, the Advisory Committee Management Officer for the DoD, pursuant to 41 CFR 102-3.150(b), waives the 15-calendar day notification requirement.

Purpose of the Meeting: The theme of the meeting is “Sediment Transport and Regional Sediment Management.” The purpose of the meeting is to identify Corps coastal research priorities related to present and future Regional Sediment Management challenges and opportunities within the context of large-scale regional studies on the Great Lakes and Nation-wide.

Agenda: On Tuesday morning, August 13, 2019, panel presentations will address Regional Sediment Processes & Management on the Great Lakes. Presentations will include: Regional Coastal Processes & Geologic Setting in the Great Lakes; Great Lakes Sediment Management Challenges; Overview of the RSM Program and Great Lakes Studies; and Great Lakes Coastal Resilience Study. The day will end with a presentation on; St. Clair River Sediment Budget: The convergence of coastal and river processes.

On Wednesday morning, August 14, 2019, the Board will reconvene to discuss Existing Sediment Transport Knowledge & Impacts. A presentation on Framing the Issues: Regional Sediment Management & Sediment Transport will be given. The meeting will then proceed to the second panel discussion entitled “Sediment Transport Challenges and Solutions” presentation will include: Fundamental Sediment Transport Processes: The Operational Value of Research; National Dredging Operations: Priority Needs for Delivering the Program; Sustainable Management of Dredged Material and Placement Areas; Beneficial Use Successes, Challenges and Lessons Learned; and RSM and EWN Regulatory & Stakeholders Successes and Challenges.

The Wednesday afternoon session continues with the State of Knowledge and Research Direction's panel. Presentations include: Academic Perspective: Sediment Process Capabilities, Gaps, and Way Forward; Sediment Transport Measurements (Estuarine, Coasts, & Dredging): Future needs in this research area; Sediment Transport Modeling (Estuarine, Coasts, & Dredging): Future needs in this research area; Sediment Management Advancements through R&D and the U.S. Coastal Research Program; and Long-term Plan to Advance Sediment Processes Knowledge for RSM.

The Board will meet in Executive Session to discuss ongoing initiatives and future actions on Thursday morning, August 15, 2019.

Meeting Accessibility: Pursuant to 5 U.S.C. 552b, as amended, and 41 CFR 102-3.140 through 102-3.165, and subject to the availability of space, the meeting is open to the public. Because seating capacity is limited, advance registration is required. For registration requirements please see below.

Oral participation by the public is scheduled for 4:00 p.m. on Wednesday, August 14, 2019. The Crowne Plaza Downtown Hotel is fully handicap accessible. For additional information about public access procedures, please contact Dr. Julie Dean Rosati, the Board's DFO, at the email address or telephone number listed in the FOR FURTHER INFORMATION CONTACT section.

Registration: It is encouraged for individuals who wish to attend the meeting of the Board to register with the DFO by email, the preferred method of contact, no later than July 30, 2019, using the electronic mail contact information found in the FOR FURTHER INFORMATION CONTACT section. The communication should include the registrant's full name, title, affiliation or employer, email address, and daytime phone number. If applicable, include written comments or statements with the registration email.

Written Comments and Statements: Pursuant to 41 CFR 102-3.015(j) and 102-3.140 and section 10(a)(3) of the FACA, the public or interested organizations may submit written comments or statements to the Board, in response to the stated agenda of the open meeting or in regard to the Board's mission in general. Written comments or statements should be submitted to Dr. Julie Dean Rosati, DFO, via electronic mail, the preferred mode of submission, at the address listed in the FOR FURTHER INFORMATION CONTACT section. Each page of the comment or statement must include the author's name, title or affiliation, address, and daytime phone number. The DFO will review all submitted written comments or statements and provide them to members of the Board for their consideration. Written comments or statements being submitted in response to the agenda set forth in this notice must be received by the DFO at least five business days prior to the meeting to be considered by the Board. The DFO will review all timely submitted written comments or statements with the Board Chairperson and ensure the comments are provided to all members of the Board before the meeting. Written comments or statements received after this date may not be provided to the Board until its next meeting.

Verbal Comments: Pursuant to 41 CFR 102-3.140d, the Board is not obligated to allow a member of the public to speak or otherwise address the Board during the meeting. Members of the public will be permitted to make verbal comments during the Board meeting only at the time and in the manner described below. If a member of the public is interested in making a verbal comment at the open meeting, that individual must submit a request, with a brief statement of the subject matter to be addressed by the comment, at least five business days in advance to the Board's DFO, via electronic mail, the preferred mode of submission, at the address listed in the FOR FURTHER INFORMATION CONTACT section. The DFO will log each request, in the order received, and in consultation with the Board Chair, determine whether the subject matter of each comment is relevant to the Board's mission and/or the topics to be addressed in this public meeting. A 30-minute period near the end of the meeting will be available for verbal public comments. Members of the public who have requested to make a verbal comment, and whose comments have been deemed relevant under the process described above, will be allotted no more than five minutes during this period, and will be invited to speak in the order in which their requests were received by the DFO.

Jeffrey R. Eckstein,
Deputy Director, Coastal and Hydraulics Laboratory.

[FR Doc. 2019-16651 Filed 8-2-19; 8:45 am]

BILLING CODE 3720-58-P